DEPARTMENT OF THE INTERIOR

Bureau of Land Management

43 CFR Parts 3900, 3920, and 3930

[LLWO-3200000. L13100000.PP00000 L.X.EMOSHL000.241A]

RIN 1004-AE28

Oil Shale Management—General

AGENCY: Bureau of Land Management, Interior.

ACTION: Proposed rule; reopening of the comment period.

SUMMARY: The Bureau of Land Management (BLM) is reopening the comment period for the proposed rule to amend the BLM's commercial oil shale regulations that published in the Federal Register on March 27, 2013. The 60-day comment period for the proposed rule ended on May 28, 2013. This notice reopens the comment period for 30 days.

DATES: The comment period for the proposed rule published March 27, 2013, at 78 FR 18547, is reopended. Send your comments so that they reach the BLM on or before July 15, 2013. The BLM will not necessarily consider any comments received after the above date or comments delivered to an address other than those listed in ADDRESSES in making its decision on the final rule.

ADDRESSES: Please submit comments on the proposed rule using one of the following: Mail: Director (630) Bureau of Land Management, U.S. Department of the Interior, Mail Stop 2143LM, 1849 C St. NW., Washington, DC 20240, Attention: 1004-AE28. Personal or messenger delivery: U.S. Department of the Interior, Bureau of Land Management, 20 M Street SE., Room 2134 LM, Attention: Regulatory Affairs, Washington, DC 20003. Federal eRulemaking Portal: http://www.regulations.gov. Follow the instructions at this Web site.

FOR FURTHER INFORMATION CONTACT: Mitchell Leverette, Chief, Division of Solid Minerals, at (202) 912-7113 for issues related to the BLM's commercial oil shale leasing program or Ian Senio, Chief, Division of Regulatory Affairs at (202) 912-7440 for regulatory process issues. Persons who use a telecommunications device for the deaf (TDD) may call the Federal Information Relay Service at 1-800-877-8339, 24 hours a day, 7 days a week to contact the above individuals.

SUPPLEMENTARY INFORMATION:

I. Background

On March 27, 2013, the BLM published a proposed rule (78 FR 18547) to amend the BLM's commercial oil shale regulations to address concerns about the royalty system in existing regulations and to provide more detail to the environmental protection requirements. The 60-day comment period for the proposed rule ended on May 28, 2013.

The BLM has received requests from interested parties asking for an extension of the comment period. Each of the requests expressed the need for additional time to conduct a comprehensive review of the proposed regulatory revisions and potential impacts of the rule. The BLM has considered the requests and by this notice, the comment period is reopened for an additional 30 days. Please do not resubmit comments previously submitted to BLM during the comment period that closed on May 28, 2013.

II. Request for Comments

Written comments on the proposed rule should be specific, should be confined to issues pertinent to the proposed rule, and should explain the reason for any recommended change. Where possible, comments should reference the specific section or paragraph of the proposed rule that the comment is addressing. The BLM need not consider or include in the Administrative Record for the proposed rule comments that it receives after the close of the comment period (see DATES) or comments delivered to an address other than those listed above (see ADDRESSES). Comments, including names and street addresses of respondents, will be available for public review at the U.S. Department of the Interior, Bureau of Land Management, 20 M Street SE., Room 2134 LM, Washington, DC 2003 during regular hours (7:45 a.m. to 4:15 p.m.) Monday through Friday, except holidays. They also will be available at the eRulemaking Portal: http://www.regulations.gov. Follow the instructions at the Web site.

Before including your address, telephone number, email address, or other personal identifying information in your comment be advised that your entire comment—including your personal identifying information—may be made publicly available at any time. While you can ask in your comment for the BLM to withhold your personal identifying information from public review, we cannot guarantee that we will be able to do so.

Date: June 6, 2013.
Tommy P. Beaudreau,
Acting Assistant Secretary, Land and Minerals Management.

[FR Doc. 2013-14028 Filed 6-12-13; 8:45 am]

BILLING CODE 4310-84-P